DEPARTMENT OF TRANSPORTATION

Federal Motor Carrier Safety Administration

[Docket No. FMCSA-2015-0372]

Notice of Availability of a Draft Environmental Assessment for the City of El Paso, Texas, Commercial Zone Expansion

AGENCY: Federal Motor Carrier Safety Administration (FMCSA), DOT.

ACTION: Notice of availability; request for comments.

SUMMARY: FMCSA announces the availability of a draft Environmental Assessment (EA) prepared for the expansion of the City of El Paso, Texas, commercial zone. The EA was prepared in compliance with the National Environmental Policy Act of 1969 (NEPA); the Council on Environmental Quality Regulations; and FMCSA NEPA Order 5610.1 (NEPA Implementing Procedures and Policy for Considering Environmental Impacts). Interested persons are invited to comment on the draft EA.

DATES: Comments on the draft environmental assessment must be received on or before January 28, 2016.

ADDRESSES: You may submit comments bearing the Federal Docket Management System Docket ID [FMCSA-2015-0372] using any of the following methods:

Federal eRulemaking Portal: Go to http://www.regulations.gov. Follow the online instructions for submitting comments.

Mail: Docket Management Facility; U.S. Department of Transportation, 1200 New Jersey Avenue SE., West Building Ground Floor, Room W12-140, Washington, DC 0590-0001.

Hand Delivery or Courier: West Building Ground Floor, Room W12-140, 1200 New Jersey Avenue SE., Washington, DC, between 9 a.m. and 5 p.m., ET, Monday through Friday, except Federal holidays.

Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., Monday through Friday, except Federal holidays. The online Federal document management system is available 24 hours each day, 365 days each year. If you want acknowledgment that we received your comments, please include a self-addressed, stamped envelope or postcard or print the acknowledgement page that appears after submitting comments online.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Ms. Andrea Pahlevanpour, Environmental Program Analyst, Regulatory Evaluation Division, U.S. Department of Transportation, Federal Motor Carrier Safety Administration, 1200 New Jersey Ave SE., Washington, DC 20590-0001, Telephone number: 202-366-5370, andrea.pahlevanpour@dot.gov. If you have questions on viewing or submitting material to the docket, contact Docket Services, telephone (202) 366-9826.

SUPPLEMENTARY INFORMATION:

Background

The County of El Paso submitted a Presidential Permit application on April 14, 2003, to the U.S. Department of State for replacement of the Fabens-Caseta International Bridge (Fabens, Texas connecting Caseta, Chihuahua, Mexico) and port of entry. The Department of State, under its authority under Executive Order 11423, “Delegation of Functions to Secretary of State Respecting Certain Facilities Constructed and Maintained on United States Borders,” 33 FR 11741 (Aug. 16, 1968), for the construction, maintenance, and operation of U.S.-Mexico cross-border facilities, issued the Presidential Permit on March 16, 2005.

Presidential Permit 05-01 is titled “Authorizing the County of El Paso, Texas, to Construct, Operate, and Maintain an International Bridge, Its Approaches and Facilities, at the International Boundary Between the United States and Mexico.” This permit granted permission, subject to the conditions of the permit, to the County of El Paso, Texas, to construct, operate and maintain an international bridge. The permit noted that the name of the bridge was proposed as the “Tornillo-Guadalupe New International Bridge.” The bridge was to be constructed, “approximately 1,950 feet upstream” from the existing Fabens-Caseta International Bridge. The permit specified that, “[T]he proposed Tornillo International Bridge will facilitate passenger vehicles, commercial trucks, and pedestrian traffic.” In June 2011, the General Services Administration (GSA) announced the kick-off of construction of the new port facility, including a six-lane replacement bridge.

Construction is complete on the United States' side of the crossing, and non-commercial passenger-vehicle crossings are ongoing at this location. Northbound traffic is using the existing bridge, built in 1938 that is to be destroyed and replaced along with the port-of-entry facilities, with the traffic detoured to the new Tornillo inspection facilities. The construction of facilities, interchanges, and roads on the Mexican side of the border has been delayed but is expected to be completed in the near future.

The commercial zone of the City of El Paso, Texas (which had a population of 649,121 as of the 2010 census) is currently defined by the general provisions of 49 CFR Sections 372.239, 372.241 and 372.243. It includes the municipality of the City of El Paso, all municipalities contiguous to the City of El Paso, and all other municipalities and all unincorporated areas that are adjacent to the City of El Paso. It also includes “when the base municipality has a population of 500,000 but less than 1 million, all unincorporated areas within 15 miles of its corporate limits and all of any other municipality any part of which is within 15 miles of the corporate limits of the base municipality.” 49 CFR 372.241(c)(6). The unincorporated community of Tornillo, Texas, as well as the area near the location of the new Port of Entry, are more than 15 miles from the closest municipal boundary of the City of El Paso. Therefore, these areas are not included as part of the current City of El Paso, Texas commercial zone.

FMCSA will expand the City of El Paso, TX, commercial zone to include all unincorporated areas within 15 miles of the corporate boundaries of the City of San Elizario, TX. The City of San Elizario (located southeast of the City of El Paso) was incorporated on November 18, 2013 under the general laws of Texas and is thus included within the present commercial zone of the City of El Paso because it is within 15 miles of the boundary of the City of El Paso. By expanding the commercial zone to include those unincorporated areas within 15 miles of the boundaries of San Elizario, the new Tornillo-Guadalupe POE and the roads and highways providing access to the POE will be within the commercial zone of the City of El Paso, TX. Most motor carriers operating entirely in a border commercial zone such as at El Paso are not required to obtain operating authority to perform such transportation. But under 49 U.S.C. 13902(c) and 49 CFR part 368, Mexico-domiciled motor carriers of property must obtain a certificate of registration to operate in border commercial zones. Allowing all of these carriers to continue their operations at El Paso necessitates ensuring that the new bridge and port of entry are in a commercial zone.

Environment

NEPA (42 U.S.C. 4371 et seq.) requires Federal agencies to integrate environmental values into their decision-making processes by requiring Federal agencies to consider the potential environmental impacts of their proposed actions. In accordance with NEPA, the Council on Environmental Quality's regulations implementing NEPA (40 CFR parts 1500-1508), FMCSA's NEPA Order 5610.1, NEPA Implementing Procedures and Policy for Considering Environmental Impacts, and other applicable requirements (March 1, 2004 (69 FR 9680)), FMCSA has prepared a draft EA to review the potential impacts of the expansion of the El Paso commercial zone. FMCSA concludes that the action of expanding the existing commercial zone will not impact endangered species, cultural resources protected under the National Historic Preservation Act, wetlands, and resources protected under Section 4(f) of the DOT Act of 1966 49 U.S.C. 303, as amended by Public Law 109-59 (Aug. 10, 2005). The impact areas that may be affected and were evaluated in the Draft EA include air quality, noise, socioeconomics, environmental justice, land use public health and safety, and hazardous materials. FMCSA anticipates that expanding the El Paso commercial zone will have certain minor impacts related principally to air emissions and land use from economic growth; however, neither of these impacts individually or collectively will cause significant impacts. In addition, the economic impact will have potentially beneficial impacts on the quality of life in terms of job creation. The Draft EA is available for inspection or copying in the Regulations.gov Web site at http://www.regulations.gov.

The draft EA also provides an analysis under the Clean Air Act, as amended (CAA), section 176(c) (42 U.S.C. 42 U.S.C. 7506(c)), and implementing regulations promulgated by the Environmental Protection Agency. None of the alternatives considered in the Draft EA are located in a nonattainment or maintenance area for any of the criteria pollutants; therefore, FMCSA has determined that it is not required to perform the CAA general conformity analysis.

Subject to public notice and comment, FMCSA anticipates issuing a Finding of No Significant Impact (FONSI) related to this action.

Issued pursuant to authority delegated in 49 CFR 1.87 on:

Issued on: January 7, 2016.
T.F. Scott Darling, III,
Acting Administrator.

[FR Doc. 2016-00532 Filed 1-14-16; 8:45 am]

BILLING CODE 4910-EX-P